DEPARTMENT OF TRANSPORTATION

Federal Aviation Administration

Availability of Changes to Advisory Circular 27-1B, Certification of Normal Category Rotorcraft, and Advisory Circular 29-2C, Certification of Transport Category Rotorcraft

AGENCY: Federal Aviation Administration (FAA), DOT.

ACTION: Notice of availability of Advisory Circular (AC) changes.

SUMMARY: This notice announces the availability of changes to AC 27-1B, Certification of Normal Category Rotorcraft, and AC 29-2C, Certification of Transport Category Rotorcraft. These changes revise AC paragraph 27.602, Critical Parts; AC paragraph 29.547A, Main Rotor and Tail Rotor Structure; AC paragraph 29.602, Critical Parts; and AC paragraph 29.917A, Design. These AC paragraphs are final and replace the existing paragraphs AC 27.602, AC 29.547A, AC 29.602, and AC 29.917A, all dated 2/12/03. These changes clarify the wording in the corresponding rule.

FOR FURTHER INFORMATION CONTACT: Gary B. Roach, Regulations Group, FAA, Rotorcraft Directorate, Aircraft Certification Service, Fort Worth, TX 76193-0111; telephone (817) 222-5130; fax (817) 222-5961; email; http://www.Gary.B.Roach@FAA.GOV.

SUPPLEMENTARY INFORMATION: This notice announces the availability of AC changes. You can get electronic copies of these changes from the FAA by logging on to http://www.airweb.faa.gov/rgl and then clicking first on Advisory Circulars, then clicking on Current AC's, and then clicking on By Number. If you do not have access to the Internet, you may request a copy by contacting the person named under the caption FOR FURTHER INFORMATION CONTACT.

An Aviation Rulemaking Advisory Committee (ARAC) harmonization working group recommended these revisions. We have reviewed these recommended revisions and agree that they clarify further the language in each affected AC paragraph. Therefore, we will incorporate these revised paragraphs in the next change to AC 27-1B and AC 29-2C.

Issued in Fort Worth, Texas, on June 25, 2003.
David A. Downey,
Manager, Rotorcraft Directorate, Aircraft Certification Service.

[FR Doc. 03-17113 Filed 7-7-03; 8:45 am]

BILLING CODE 4910-13-M